DEPARTMENT OF TRANSPORTATION

National Highway Traffic Safety Administration

49 CFR Part 585

[Docket No. NHTSA-03-15067]

Advanced Air Bag Phase-In Reporting Requirements

AGENCY: National Highway Traffic Safety Administration (NHTSA), Department of Transportation.

ACTION: Final rule; correcting amendment.

SUMMARY: This document contains a correction to the final rule published May 5, 2003, that amended the definition of limited line manufacturer for the purposes of the advanced air bag regulations phase-in.

DATES: The effective date of this final rule is September 25, 2003.

FOR FURTHER INFORMATION CONTACT: The following persons at the National Highway Traffic Safety Administration:

For non-legal issues: Mr. Louis Molino of the NHTSA Office of Crashworthiness Standards, NVS-112, telephone (202) 366-2264, facsimile (202) 493-2739.

For legal issues: Mr. Christopher Calamita of the NHTSA Office of Chief Counsel, NCC-112, telephone (202) 366-2992, facsimile (202) 366-3820.

You may send mail to both of these officials at the National Highway Traffic Safety Administration, 400 Seventh St., SW., Washington, DC 20590.

SUPPLEMENTARY INFORMATION:

Background

The standards that are subject to these corrections are 49 CFR part 585, Advanced Air Bag Phase-In Reporting Requirements, and Federal Motor Vehicle Safety Standard (FMVSS) No. 208, Occupant Crash Protection. In May 2000, we published a rule requiring advanced air bags in light vehicles in order to reduce the risk of serious air bag-induced injuries, particularly for small women and young children, and provide improved frontal crash protection for all occupants (65 FR 30680). The requirements of that rule are being phased in during two stages, the first of which extends from September 1, 2003 to August 31, 2006.

During the first phase-in, increasing percentages of motor vehicles will be required to meet requirements for minimizing air bag risks, primarily by either automatically turning off the air bag when young children are present or deploying the air bag more benignly so that it is much less likely to cause serious or fatal injury to out-of-position occupants. The May 2000 final rule permitted limited line manufacturers, i.e., those defined in FMVSS No. 208 as producers of no more than two vehicle lines for sale in the United States, the option of opting out of the advanced air bag requirements for the first year of the phase-ins as long as 100 percent of the vehicles produced for the U.S. market were fully compliant in the second year of the phase-ins and thereafter.

In May 2003, we published a final rule amending the advanced air bag regulation to address how to treat limited line manufacturers in the first phase-in. (68 FR 23614; May 5, 2003.) The May 2003 final rule amended the definition of limited line manufacturer, for the first phase-in only, to a manufacturer that produces no more than three vehicle lines. Additionally, we provided limited line manufacturers with an additional year to comply with the new advanced air bag requirements. We determined that the amended definition provided relief to manufacturers of only a few carlines that are required to ensure that each of its carlines is fully compliant.

Need for Correction

As published, the May 2003 final rule contained an error that needs correction. The May 2003 final rule expanded the definition of limited line manufacturer in FMVSS No. 208 for the first stage of the advanced air bag phase-in, but the final rule failed to amend the definition of limited line manufacturer contained in 49 CFR part 585. Part 585 establishes the reporting requirements for the advanced air bag phase-ins. Under the May 2000 and May 2003 final rules, § 585.4(g) defines limited line manufacturer as a “manufacturer that sells two or fewer carlines, as that term is defined in 49 CFR 583.4, in the United States during a production year.”

This correction amends the definition of limited line manufacture in § 585.4 to include manufacturers of three or fewer carlines for the first stage of the phase-in.

Correction of Publication

List of Subjects in 49 CFR Part 585

Imports, Motor vehicle safety, Motor vehicles, Reporting and recordkeeping requirements.

In consideration of the foregoing, 49 CFR part 585 is amended as follows:

PART 585—ADVANCED AIR BAG PHASE-IN REPORTING REQUIREMENTS

1. The authority citation for part 585 of title 49 continues to read as follows:

Authority: 49 U.S.C. 322, 30111, 30115, 30117, and 30166; delegation of authority at 49 CFR 1.50.

2. Section 585.4 is amended by revising paragraph (g) to read as follows:

* * * * *

§ 585.4 Definitions.

* * * * *

(g) Limited line manufacturer for phase one, means a manufacturer that sells three or fewer carlines, as that term is defined in 49 CFR 583.4, in the United States during a production year; and for phase two, a manufacturer that sells two or fewer carlines, as that term is defined in 49 CFR 583.4, in the United States during a production year.

* * * * *

Issued on: September 16, 2003.
Stephen R. Kratzke,
Associate Administrator for Rulemaking.

[FR Doc. 03-24146 Filed 9-24-03; 8:45 am]

BILLING CODE 4910-59-P